DEPARTMENT OF THE INTERIOR

Bureau of Land Management

[CA-610-00-1220-HQ]

Notice of Availability of the Record of Decision for the Soledad Canyon Sand and Gravel Mining Project

SUMMARY: In accordance with the National Environmental Policy Act (NEPA) of 1969 , Title 40 Code of Federal Regulations Parts 1505 and 1506, and BLM Handbook H-1790-1, notice is hereby given that the U.S. Department of the Interior's Bureau of Land Management (BLM) has prepared the Record of Decision for the Soledad Canyon Sand and Gravel mining Project. It is the BLM's decision to approve the Reduced North Fines Storage Alternative with additional environmental modifications as described in the Final Environmental Impact Statement published by BLM on June 2, 2000.

This decision directs the manner in which the Transit Mixed Concrete Company (TMC) is authorized to extract a total of 78 million tons of material to produce and sell approximately 56.1 million tons of sand and gravel in the Soledad Canyon area of northeastern Los Angeles County, California over a 20-year period in conformance with Federal contracts issued by BLM to TMC in 1990.

This decision may be appealed to the Interior Board of Land Appeals, Office of the Secretary within 30 days from the date of this notice, in accordance with the regulations at Title 43 of the Code of Federal Regulations Part 4. For more information, contact BLM's Palm Springs-South Coast Field Office at the address and phone number listed below.

SUPPLEMENTARY INFORMATION: The Record of Decision is online at www.ca.blm.gov. Printed copies can also be obtained from the BLM in Palm Springs by calling (760) 251-4810 or by writing to the Bureau of Land Management, Palm Springs-South Coast Field Office, 690 W. Garnet, North Palm Springs, CA 92258, Attn: Elena Misquez.

FOR FURTHER INFORMATION CONTACT: Doran Sanchez at (909) 697-5220, BLM California Desert District External Affairs.

Dated: July 25, 2000.
Tim Salt,
District Manager.

[FR Doc. 00-19216 Filed 7-31-00; 8:45 am]

BILLING CODE 4310-40-P